DEPARTMENT OF COMMERCE

International Trade Administration

Postponement of Preliminary Determinations of Antidumping Duty Investigations. Certain Cold-Rolled Carbon Steel Flat Products from Argentina (A-357-816), Australia (A-602-804), Belgium (A-423-811), Brazil (A-351-834), the People's Republic of China (A-570-872), France (A-427-822), Germany (A-428-834), India (A-533-826), Japan (A-588-859), Korea (A-580-848), the Netherlands (A-421-810), New Zealand (A-614-803), Russia (A-821-815), South Africa (A-791-814), Spain (A-469-812), Sweden (A-401-807), Taiwan (A-583-839), Thailand (A-549-819), Turkey (A-489-810) and Venezuela (A-307-822)

AGENCY: Import Administration, International Trade Administration, Department of Commerce.

SUMMARY: The Department of Commerce (“the Department”) is postponing the preliminary determinations in the antidumping duty investigations of certain cold-rolled carbon steel flat products from Argentina, Australia, Belgium, Brazil, the People's Republic of China, France, Germany, India, Japan, Korea, the Netherlands, New Zealand, Russia, South Africa, Spain, Sweden, Taiwan, Thailand, Turkey and Venezuela from March 7, 2002 until no later than April 26, 2002. These postponements are made pursuant to section 733(c)(1)(A) of the Tariff Act of 1930, as amended.

EFFECTIVE DATES: February 22, 2002.

FOR FURTHER INFORMATION CONTACT: James Terpstra (the Netherlands, Belgium, South Korea and Sweden), at (202) 482-3965, Charles Riggle (Taiwan) at (202) 482-0650, Tom Futtner (Australia and India) at (202) 482-3814, Constance Handley (New Zealand) at (202) 482-0631, Shawn Thompson (Brazil and Spain) at (202) 482-1776, Richard Rimlinger (South Africa and Argentina) at (202) 482-4477, Sally Gannon (Japan) at (202) 482-0162, Maureen Flannery (Thailand ) at (202) 482-3020, Abdelali Elouaradia (France and Germany) at (202) 482-1374, Robert James (Turkey) at (202) 482-0649, Robert Bolling (Venezuela) at (202) 482-3434, and Jim Doyle (Russia and the People's Republic of China) at (202) 482-0159, Import Administration, International Trade Administration, U.S. Department of Commerce, 14th Street and Constitution Avenue, N.W., Washington D.C. 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 CFR Part 351 (2001).

Postponement of Due Date for Preliminary Determinations

On October 18, 2001, the Department initiated antidumping duty investigations of imports of certain cold-rolled carbon steel flat products from Argentina, Australia, Belgium, Brazil, China, France, Germany, India, Japan, Korea, the Netherlands, New Zealand, Russia, South Africa, Spain, Sweden, Taiwan, Thailand, Turkey and Venezuela. The notice of initiation stated that we would issue our preliminary determinations no later than 140 days after the date of initiation. See 66 FR 54198 (October 26, 2001). Currently, the preliminary determinations in these investigations are due on March 7, 2002.

On January 14, 2002, petitioners alleged, pursuant to section 733(e)(1) of the Act and 19 CFR 351.206, that critical circumstances exist with respect to imports of certain cold-rolled carbon steel flat products from Argentina, Australia, China, India, the Netherlands, Russia, South Africa, South Korea and Taiwan.

On February 7, 2002, petitioners made a timely request pursuant to 19 CFR 351.205(e) for a 50-day postponement, pursuant to section 733(c)(1)(A) of the Act. Petitioners stated that a postponement of the preliminary determinations is necessary in order to permit a more complete and effective investigation and review of respondents' questionnaire and supplemental questionnaire responses, and accurate preliminary determinations.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, in accordance with petitioners' request for a postponement, the Department is postponing the preliminary determinations in these investigations until April 26, 2002, which is 190 days from the date on which the Department initiated these investigations.

This notice is issued and published pursuant to section 733(c)(2) of the Act and 19 CFR 351.205(f).

February 14, 2002
Faryar Shirzad,
Assistant Secretary for Import Administration.

[FR Doc. 02-4266 Filed 2-21-02; 8:45 am]

BILLING CODE 3510-DS-S